DEPARTMENT OF COMMERCE

International Trade Administration

[A-533-813]

Certain Preserved Mushrooms From India: Notice of Partial Rescission of Antidumping Duty Administrative Review

AGENCY: Import Administration, International Trade Administration, Department of Commerce.

Effective Date: September 24, 2004.

FOR FURTHER INFORMATION CONTACT: David J. Goldberger or Kate Johnson, Import Administration, International Trade Administration, U.S. Department of Commerce, 14th Street and Constitution Avenue, NW., Washington, DC 20230; telephone: (202) 482-4136 or (202) 482-4929, respectively.

SUPPLEMENTARY INFORMATION:

Background

On February 3, 2004, the Department published in the Federal Register (69 FR 5125) a notice of “Opportunity To Request Administrative Review” of the antidumping duty order on certain preserved mushrooms from India for the period February 1, 2003, through January 31, 2004. On February 27, 2004, Agro Dutch Foods, Ltd. (Agro Dutch), requested an administrative review of its sales. On February 27, 2004, Premier Mushroom Farms (Premier), requested an administrative review of its sales. Also, on February 27, 2004, the petitioner ¹ requested an administrative review of the antidumping duty order for the following companies: Agro Dutch, Dinesh Agro Products, Ltd. (Dinesh Agro), Flex Foods, Ltd. (Flex Foods), Himalya International, Ltd. (Himalya), Premier, Saptarishi Agro Industries Ltd. (Saptarishi Agro), and Weikfield Agro Products Ltd. (Weikfield). On March 26, 2004, the Department published a notice of initiation of an administrative review of the antidumping duty order on certain preserved mushrooms from India with respect to these companies. See Initiation of Antidumping and Countervailing Duty Administrative Reviews and Requests for Revocations in Part, 69 FR 15788.

¹ The petitioner is the Coalition for Fair Preserved Mushroom Trade which includes: L.K. Bowman, Inc., Monterey Mushrooms, Inc., Mushroom Canning Company, and Sunny Dell Foods, Inc.

On June 24, 2004, the petitioner timely withdrew its request for review with respect to Dinesh Agro, Himalya, and Saptarishi Agro. On June 22, 2004, the petitioner requested that the Department extend the deadline established under 19 CFR 351.213(d)(1) to withdraw its request for review of Flex Foods until fourteen days after the receipt of a complete electronic dataset from Flex Foods. On June 24, 2004, we granted this request for extending the deadline to withdraw the petitioner's request for review of Flex Foods until July 6, 2004. On July 6, 2004, the petitioner requested that the Department extend the previous deadline established under 19 CFR 351.213(d)(1), until July 9, 2004, for withdrawing its request for an administrative review of Flex Foods. On July 7, 2004, we granted this request. However, the petitioner never subsequently withdrew its request for an administrative review of Flex Foods.

Partial Rescission of Review

Section 351.213(d)(1) of the Department's regulations stipulates that the Secretary will rescind an administrative review, in whole or in part, if a party that requested a review withdraws the request within 90 days of the date of publication of notice of initiation of the requested review. In this case, the petitioner withdrew its request for review of Dinesh Agro, Himalya, and Saptarishi Agro within the 90-day period. Therefore, because the petitioner was the only party to request the administrative review of these three companies, we are rescinding, in part, this review of the antidumping duty order on certain preserved mushrooms from India as to Dinesh Agro, Himalya, and Saptarishi Agro. This review will continue with respect to Agro Dutch, Flex Foods, Premier, and Weikfield.

This notice is published in accordance with section 751 of the Tariff Act of 1930, as amended, and 19 CFR 351.213(d)(4).

Dated: September 24, 2004.
James J. Jochum,
Assistant Secretary for Import Administration.

[FR Doc. E4-2444 Filed 9-29-04; 8:45 am]

BILLING CODE 3510-DS-P